DEPARTMENT OF COMMERCE

International Trade Administration

[C-570-091]

Certain Steel Wheels 12 to 16.5 Inches in Diameter From the People's Republic of China: Final Results and Partial Rescission of Countervailing Duty Administrative Review; 2019

AGENCY: Enforcement and Compliance, International Trade Administration, Department of Commerce.

SUMMARY: The Department of Commerce (Commerce) determines that certain producers/exporters of certain steel wheels 12 to 16.5 inches in diameter (steel wheels) from the People's Republic of China (China) received countervailable subsidies during the period of review (POR) February 25, 2019, through December 31, 2019.

DATES: Applicable November 12, 2021.

FOR FURTHER INFORMATION CONTACT: Kyle Clahane, AD/CVD Operations, Office III, Enforcement and Compliance, International Trade Administration, U.S. Department of Commerce, 1401 Constitution Avenue NW, Washington, DC 20230; telephone: (202) 482-5449.

SUPPLEMENTARY INFORMATION:

Background

Commerce published the Preliminary Results of this review on July 9, 2021, and invited comments from interested parties.¹ For a complete description of the events that occurred since the Preliminary Results, see the Issues and Decision Memorandum.²

¹ See Certain Steel Wheels (12-16.5 Inches Diameter) from the People's Republic of China: Preliminary Results of Countervailing Duty Administrative Review, Rescission in Part, and Intent To Rescind in Part; 2019, 86 FR 36250 (July 9, 2021) (Preliminary Results).

² See Memorandum, “Issues and Decision Memorandum for the Final Results of the 2019 Administrative Review of the Countervailing Duty Order on Certain Steel Wheels (12-16.5 inches diameter) from the People's Republic of China,” dated concurrently with, and hereby adopted by, this notice (Issues and Decision Memorandum).

Scope of the Order ³

³ See Certain Steel Trailer Wheels 12 to 16.5 Inches from the People's Republic of China: Antidumping Duty and Countervailing Duty Orders, 84 FR 45952 (September 3, 2019) (Order).

The products covered by the Order are certain on-the-road steel wheels, discs, and rims for tubeless tires with a nominal wheel diameter of 12 inches to 16.5 inches, regardless of width. For a complete description of the scope of the Order, see the Issues and Decision Memorandum.⁴

⁴ See Issues and Decision Memorandum.

Analysis of Comments Received

All issues raised in the interested parties' briefs are addressed in the Issues and Decision Memorandum. A list of the issues raised by interested parties and to which Commerce responded in the Issues and Decision Memorandum is provided in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

After evaluating the comments received from interested parties and record information, we have made no changes to the net subsidy rates assigned to the mandatory respondents. For a discussion of these comments, see the Issues and Decision Memorandum.

Methodology

Commerce conducted this administrative review in accordance with section 751(a)(1)(A) of the Tariff Act of 1930, as amended (the Act). For purposes of these final results, Commerce is relying solely on facts otherwise available, including adverse facts available (AFA), pursuant to sections 776(a) and (b) of the Act because the selected mandatory respondents did not participate in this administrative review. For a full discussion of our application of AFA, see the Preliminary Results and the section “Use of Facts Otherwise Available and Adverse Inferences” in the accompanying Preliminary Decision Memorandum.⁵

⁵ See Memorandum, “Decision Memorandum for the Preliminary Results of the Administrative Review of the Countervailing Duty Order on Certain Steel Wheels (12-16.5 inches diameter) from the People's Republic of China,” dated July 1, 2021 (Preliminary Decision Memorandum).

Rescission of Administrative Review, in Part

It is Commerce's practice to rescind an administrative review of a countervailing duty order, pursuant to 19 CFR 351.213(d)(3), when there are no reviewable entries of subject merchandise during the POR for which liquidation is suspended.⁶ Normally, upon completion of an administrative review, the suspended entries are liquidated at the countervailing duty assessment rate calculated for the review period.⁷ Therefore, for an administrative review of a company to be conducted, there must be a reviewable, suspended entry that Commerce can instruct U.S. Customs and Border Protection (CBP) to liquidate at the calculated countervailing duty assessment rate calculated for the review period.⁸ We continue to find that Hangzhou Antego Industry Co. Ltd. did not have reviewable entries of subject merchandise for which liquidation is suspended. Because there is no evidence on the record of this segment of the proceeding to indicate that this company had entries, exports, or sales of subject merchandise to the United States during the POR, we are rescinding this review with respect to this company, consistent with 19 CFR 351.213(d)(3).

⁶ See, e.g., Lightweight Thermal Paper from the People's Republic of China: Notice of Rescission of Countervailing Duty Administrative Review; 2015, 82 FR 14349 (March 20, 2017); and Circular Welded Carbon Quality Steel Pipe from the People's Republic of China: Rescission of Countervailing Duty Administrative Review; 2017, 84 FR 14650 (April 11, 2019).

⁷ See 19 CFR 351.212(b)(2).

⁸ See 19 CFR 351.213(d)(3).

Final Results of Administrative Review

We determine that, for the period February 25, 2019, through December 31, 2019, the following net countervailable subsidy rates exist:

Company | Net subsidy rate ad valorem (percent)
Zhejiang Jingu Company Limited and Shanghai Yata Industry Company Limited ⁹ | 388.31
Xiamen Topu Imports & Export Co., Ltd | 388.31
⁹ In the investigation, we found that Zhejiang Jingu was cross-owned with An Gang Jingu (Hangzhou) Metal Materials Co., Ltd.; Hangzhou Jingu New Energy Development Co. Ltd.; Shangdong Jingu Auto Parts Co., Ltd.; Zhejiang Jingu Automobile Components; Zhejiang Wheel World Co., Ltd.; and Shanghai Yata Industry Company Limited. There is no information on the record of this administrative review that would lead Commerce to reconsider that determination, therefore, we continue to find these companies cross-owned. See Certain Steel Wheels 12 to 16.5 Inches in Diameter from the People's Republic of China: Final Affirmative Countervailing Duty Determination, and Final Affirmative Determination of Critical Circumstances, 84 FR 32723 (July 9, 2019).

Disclosure

Normally, Commerce discloses to interested parties the calculations performed in connection with the final results of a review within five days of the date of publication of the notice of final results in the Federal Register, in accordance with 19 CFR 351.224(b). However, because Commerce applied AFA to the three mandatory respondents, in accordance with section 776 of the Act, there are no calculations to disclose.

Assessment Rate

Pursuant to section 751(a)(2)(C) of the Act and 19 CFR 351.212(b)(2), Commerce will determine, and U.S. Customs and Border Protection (CBP) shall assess, countervailing duties on all appropriate entries of subject merchandise covered by this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

In accordance with section 751(a)(2)(C) of the Act, Commerce intends to instruct CBP to collect cash deposits of estimated countervailing duties in the amounts shown for the companies listed above. For all nonreviewed firms, we will instruct CBP to continue to collect cash deposits of estimated countervailing duties at the most recent company-specific or all-others rate applicable to the company, as appropriate. These cash deposits, when imposed, shall remain in effect until further notice.

Administrative Protective Order

This notice also serves as a final reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing and publishing these results in accordance with sections 751(a)(1) and 777(i)(1) of the Act, and 19 CFR 351.213(d)(4) and 19 CFR 351.221(b)(5).

Dated: November 5, 2021.
Ryan Majerus,
Deputy Assistant Secretary for Policy and Negotiations, Performing the Non-Exclusive Functions and Duties of The Assistant Secretary for Enforcement and Compliance.

Appendix

List of Topics Discussed in the Issues and Decision Memorandum

I. Summary

II. Background

III. Scope of the Order

IV. Rescission of the Administrative Review, in Part

V. Changes Since the Preliminary Results

VI. Use of Facts Available and Application of Adverse Inferences

VII. Changes Since the Preliminary Results

VIII. Analysis of Comments

Comment: The “All-Others” Rate

IX. Recommendation

[FR Doc. 2021-24706 Filed 11-10-21; 8:45 am]

BILLING CODE 3510-DS-P